SMALL BUSINESS ADMINISTRATION

Disaster Declaration # 11964 and # 11965; Louisiana Disaster Number LA-00028

AGENCY: U.S. Small Business Administration.

ACTION: Amendment 1.

SUMMARY: This is an amendment of the Presidential declaration of a major disaster for Public Assistance Only for the State of Louisiana (FEMA-1863-DR), dated 12/10/2009.

Incident: Severe Storms, Tornadoes, and Flooding.

Incident Period: 10/29/2009 through 11/03/2009.

Effective Date: 12/31/2009.

Physical Loan Application Deadline Date: 02/08/2010.

Economic Injury (EIDL) Loan Application Deadline Date: 09/10/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of LOUISIANA, dated 12/10/2009, is hereby amended to include the following areas as adversely affected by the disaster.

Primary Counties: Catahoula, Franklin.

All other information in the original declaration remains unchanged.

(Catalog of Federal Domestic Assistance Numbers 59002 and 59008)

James E. Rivera,
Associate Administrator for Disaster Assistance.

[FR Doc. 2010-326 Filed 1-11-10; 8:45 am]

BILLING CODE 8025-01-P